DEPARTMENT OF COMMERCE

National Oceanic and Atmospheric Administration

Notice of Changes in the Development and Distribution of NOAA Nautical Charts and Publications

AGENCY: Office of Coast Survey, National Ocean Service, National Oceanic and Atmospheric Administration (NOAA), Department of Commerce.

ACTION: Notice to advise the public of changes to the printing and distribution of NOAA's nautical charts, including digital charts, and to seek public comment.

SUMMARY: NOAA is making significant changes to nautical chart printing and distribution, and is seeking public comment. This notice informs the public of the Office of Coast Survey's approach to expanding navigation products and services, and explains how mariners may continue to access the nautical charts necessary for safe navigation of U.S. waters and to meet regulatory carriage requirements.

DATES: Written, faxed, or emailed comments are due by midnight, February 3, 2014.

ADDRESSES: Submit comments by mail to Director, Office of Coast Survey, 1315 East-West Highway #6216, Silver Spring, MD 20910; or by using the online NOAA Nautical Inquiry & Comment System at http://nauticalcharts.noaa.gov/inquiry.

FOR FURTHER INFORMATION CONTACT: Visit the Web site (http://nauticalcharts.noaa.gov) or contact the Office of Coast Survey at the following address: NOAA, National Ocean Service, Office of Coast Survey, Marine Chart Division, 1315 East-West Highway, Silver Spring, MD 20910-32821, U.S.A.; telephone 888-990-6622; fax 301-713-4516; email anthony.r.klemm@noaa.gov.

SUPPLEMENTARY INFORMATION: NOAA is privatizing the printing of nautical charts. Regulations that govern nautical chart and publication carriage requirements remain unchanged. These regulations are found in 33 CFR 164 and Title 46 of the U.S. Code of Federal Regulations (CFR).

After April 13, 2014, NOAA-certified Print-on-Demand (POD) charts will be the only official source available for mariners to obtain NOAA paper nautical charts. NOAA-certified POD charts, available since 1999 through certified POD partners, are official paper nautical charts that are up-to-date at the time of printing. These charts are considered “published” by NOAA's National Ocean Service, and therefore meet chart carriage requirements.

POD charts are currently available from NOAA commercial partners OceanGrafix (http://www.oceangrafix.com) and East View Geospatial (http://www.geospatial.com). If you are interested in becoming a POD chart provider, learn more at our Web site at http://www.nauticalcharts.noaa.gov/pod/PODpartner.htm.

NOAA is also making nautical chart information available digitally in three new ways, and is seeking feedback on these three changes.

1. For a three-month trial period (October 22, 2013 to January 22, 2014), NOAA is providing free digital chart image files in PDF (Portable Document Format) file format. The free PDF chart files are available for public use. The digital charts are also available as NOAA-certified Print-on-Demand charts. NOAA will evaluate the usage and user feedback to decide whether to continue providing public access to PDF nautical charts. Please note that the free PDF charts do not meet chart carriage requirements under federal regulations unless printed to NOAA quality standards by a NOAA-certified POD partner. Download PDF charts at www.nauticalcharts.noaa.gov/pdfcharts.

2. NOAA's Office of Coast Survey is providing high-resolution NOAA raster navigational charts (NOAA RNC®) for public testing and evaluation. The Office of Coast Survey is upgrading the image quality from the current 254 DPI to 400 DPI to improve clarity, readability, and aesthetics of this digital charting product. The evaluation dataset, which is kept up-to-date like the current RNCs, is available for download for Tampa Bay, Detroit, Long Island Sound, and Puget Sound. If no problems are identified or left unresolved, Coast Survey intends to upgrade all RNCs to 400 dpi by February 2014. Software product developers and RNC users are invited to provide comments or questions regarding this new service. Download the evaluation datasets at www.charts.noaa.gov/RNCs_400/.

3. An online seamless viewer of NOAA's electronic navigational charts (NOAA ENC®) is available for public use at the Web site http://www.nauticalcharts.noaa.gov/ENCOnline/. NOAA ENC Online optimizes the viewing of the entire ENC suite, using the display rules defined by the International Hydrographic Organization's S-52 standards, Specifications for Chart Content and Display Aspects of ECDIS. The public is invited to provide comments or questions regarding this new service.

Authority: 33 U.S.C. Chapter 17, Coast and Geodetic Survey Act of 1947.

Dated: December 16, 2013.
Gerd Glang,
Director, Office of Coast Survey, National Ocean Service, National Oceanic and Atmospheric Administration.

[FR Doc. 2013-31378 Filed 12-31-13; 8:45 am]

BILLING CODE 3510-22-P